FEDERAL EMERGENCY MANAGEMENT AGENCY

44 CFR Part 65

[Docket No. FEMA-P-7614]

Changes in Flood Elevation Determinations

AGENCY: Federal Emergency Management Agency, (FEMA).

ACTION: Interim rule.

SUMMARY: This interim rule lists communities where modification of the Base (1-percent-annual-chance) Flood Elevations (BFEs) is appropriate because of new scientific or technical data. New flood insurance premium rates will be calculated from the modified BFEs for new buildings and their contents.

DATES: These modified BFEs are currently in effect on the dates listed in the table below and revise the Flood Insurance Rate Map(s) in effect prior to this determination for the listed communities.

From the date of the second publication of these changes in a newspaper of local circulation, any person has ninety (90) days in which to request through the community that the Administrator for Federal Insurance and Mitigation Administration reconsider the changes. The modified BFEs may be changed during the 90-day period.

ADDRESSES: The modified BFEs for each community are available for inspection at the office of the Chief Executive Officer of each community. The respective addresses are listed in the table below.

FOR FURTHER INFORMATION CONTACT: Matthew B. Miller, P.E., Chief, Hazards Study Branch, Federal Insurance and Mitigation Administration, 500 C Street, SW., Washington, DC 20472, (202) 646-3461 or (e-mail) matt.miller@fema.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

The changes in BFEs are in accordance with 44 CFR 65.4.

National Environmental Policy Act

This rule is categorically excluded from the requirements of 44 CFR part 10, Environmental Consideration. No environmental impact assessment has been prepared.

Regulatory Flexibility Act

The Administrator for Federal Insurance and Mitigation Administration certifies that this rule is exempt from the requirements of the Regulatory Flexibility Act because modified BFEs are required by the Flood Disaster Protection Act of 1973, 42 U.S.C. 4105, and are required to maintain community eligibility in the NFIP. No regulatory flexibility analysis has been prepared.

Regulatory Classification

This interim rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, Floodplains, Reporting and record keeping requirements.

Accordingly, 44 CFR part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Arkansas: Pulaski (01-06-1835P) | City of Little Rock | July 10, 2002; July 17, 2002; Little Rock Free Press | The Honorable Jim Dailey, Mayor, City of Little Rock, 500 West Markham Street, Room 203, Little Rock, Arkansas 72201 | October 16, 2002 | 050181
Illinois:
McHenry (01-05-3762P) | Village of Lake In The Hills | July 2, 2002; July 9, 2002; The Northwest Herald | Mr. Ed Plaza, Village President, 1115 Crystal Lake Road, Lake In The Hills, Illinois 60156 | October 8, 2002 | 170481
McHenry (01-05-3762P) | Unincorporated Areas | July 2, 2002; July 9, 2002 The Northwest Herald | Mr. Mike Tryon, Chairperson, McHenry County Board, McHenry County Government Center, 2200 North Seminary Avenue, Woodstock, Illinois 60098 | October 8, 2002 | 170732
Cook (02-05-2333P) | Village of Palos Park | July 9, 2002; July 16, 2002; Daily Southtown | The Honorable Jean A. Moran, Mayor, Village of Palos Park, 8999 West 123rd Street, Palos Park, Illinois 60464 | October 15, 2002 | 170144
Kansas: Sedgwick (00-07-493P) | City of Wichita | May 24, 2001; May 31, 2001; Wichita Eagle | The Honorable Bob Knight, Mayor, City of Wichita, 455 North Main Street, 5th Floor, Wichita, Kansas 67202 | August 31, 2001 | 200328
Ohio:
Lorain (02-05-0982P) | City of Avon | July 9, 2002; July 16, 2002; The Morning Journal | The Honorable James A. Smith, Mayor, City of Avon, 36080 Chester Road, Avon, Ohio 44011 | June 21, 2002 | 390348
Franklin (01-05-1827P) | City of Columbus | July 8, 2002; July 15, 2002; Columbus Dispatch | The Honorable Michael B. Coleman, Mayor, City of Columbus, 90 West Broad Street, Columbus, Ohio 43215 | October 14, 2002 | 390170
Franklin (01-05-1827P) | Unincorporated Areas | July 8, 2002; July 15, 2002; Columbus Dispatch | The Honorable Arlene Shoemaker, President, Franklin County Board of Commissioners, 373 South High Street, 26th Floor, Columbus, Ohio 43215 | October 14, 2002 | 390167
Franklin (01-05-1827P) | Village of Groveport | July 8, 2002; July 15, 2002; Southwest Messenger | Mr. Anthony Bales, Village Administrator, Village of Groveport, Groveport Municipal Building, 655 Blacklick Street, Groveport, Ohio 43125 | October 14, 2002 | 390174
Butler and Warren (01-05-1645P) | Village of Monroe | July 3, 2002; July 10, 2002; Middletown Journal | The Honorable Michael P. Morris, Major, Village of Monroe, 233 South Main Street, Monroe, Ohio 45050 | October 9, 2002 | 390042
Montgomery (02-05-0845P) | Unincorporated Areas | July 9, 2002; July 16, 2002; Dayton Daily News | Mr. Charles J. Curran, Commissioner, Montgomery County, 451 West Third Street, Dayton, Ohio 45422 | October 15, 2002 | 390775
Warren (01-05-1645P) | Unincorporated Areas | July 3, 2002; July 10, 2002; The Western Star | Mr. C. Michael Kilburn, President, Warren County Board of Commissioners, 406 Justice Drive, Lebanon, Ohio 45036 | October 9, 2002 | 390757
Oklahoma:
Oklahoma (02-06-281P) | City of Edmond | July 16, 2002; July 23, 2002; The Edmond Sun | The Honorable Saundra Naifeh, Mayor, City of Edmond, P.O. Box 2970, Edmond, OK 73083 | July 2, 2002 | 400252
McClain, Oklahoma, Canadian, Cleveland, and Pottawatomie (01-06-1912P) | City of Oklahoma City | July 24, 2002; July 31, 2002; The Daily Oklahoman | The Honorable Kirk Humphreys, Mayor, City of Oklahoma City, 200 North Walker, Suite 302, Oklahoma City, Oklahoma 73102 | October 30, 2002 | 405378
Texas:
Denton (02-06-525P) | Town of Corinth | July 16, 2002; July 23, 2002; Denton Record Chronicle | The Honorable J.B. Troutman, Mayor, Town of Corinth, 2002 South Corinth Street, Corinth, Texas 76210 | October 22, 2002 | 481143
Tarrant (02-06-453P) | City of Fort Worth | July 19, 2002; July 26, 2002; Fort Worth Star-Telegram | The Honorable Kenneth Barr, Mayor, City of Fort Worth, City Hall, 1000 Throckmorton Street, Fort Worth, Texas 76102-6311 | October 25, 2002 | 480596
Dallas (02-06-1535P) | City of Garland | July 18, 2002; July 25, 2002; Garland Morning News | The Honorable Jim Spence, Mayor, City of Garland, P.O. Box 469002, Garland, Texas 75046 | June 28, 2002 | 458471
Harrison and Gregg (02-06-1946P) | City of Longview | July 11, 2002; July 18, 2002; Longview News Journal | The Honorable Earl Roberts, Mayor, City of Longview, P.O. Box 1952, Longview, Texas 75606-1952 | October 17, 2002 | 480264
Bexar (02-06-1320P) | City of San Antonio | July 11, 2002; July 18, 2002; San Antonino Express-News | The Honorable Ed Garza, Mayor, City of San Antonio, P.O. Box 839966, San Antonio, Texas 78282-3966 | October 17, 2002 | 480045
Bexar (02-06-252P) | City of San Antonio | July 19, 2002; July 26, 2002; San Antonio Express-News | The Honorable Ed Garza, Mayor, City of San Antonio, P.O. Box 839966, San Antonio, Texas 78283-3966 | October 25, 2002 | 480045
Tarrant (02-06-453P) | Unincorporated Areas | July 19, 2002; July 26, 2002; Fort Worth Star Telegram | The Honorable Tom Vandergriff, Judge, Tarrant County, 100 East Weatherford Street, Fort Worth, Texas 76196-0101 | October 25, 2002 | 480582
Bexar (01-06-1218P) | City of Universal City | July 11, 2002; July 18, 2002; Primetime Newspapers | The Honorable Wesley D. Becken, Mayor, City of Universal City, P.O. Box 3008, Universal City, Texas 78148 | October 17, 2002 | 480049

(Catalog of Federal Domestic Assistance No. 83.100, “Flood Insurance.”)

Dated: August 9, 2002.
Anthony S. Lowe,
Administrator, Federal Insurance and Mitigation Administration.

[FR Doc. 02-20963 Filed 8-16-02; 8:45 am]

BILLING CODE 6718-04-P